DEPARTMENT OF TRANSPORTATION

National Highway Traffic Safety Administration

[Docket No. NHTSA-01-8906; Notice 01]

RIN 2127-AI06

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 1999, including theft rates for existing passenger motor vehicle lines manufactured in model year (MY) 1999. The theft data preliminarily indicate that the vehicle theft rate for CY/MY 1999 vehicles (2.89 thefts per thousand vehicles) increased by 14.2 percent from the theft rate for CY/MY 1998 vehicles (2.53 thefts per thousand vehicles).

Publication of these data fulfills NHTSA's statutory obligation to periodically obtain accurate and timely theft data, and publish the information for review and comment.

DATES: Comments must be submitted on or before May 14, 2001.

ADDRESSES: All comments should refer to the docket number and notice number cited in the heading of this document and be submitted, preferably with two copies to: U.S. Department of Transportation, Dockets, Room PL-401, 400 Seventh Street, SW., Washington, DC 20590. Docket hours are from 10:00 am to 5:00 pm, Monday through Friday.

FOR FURTHER INFORMATION CONTACT: Ms. Rosalind Proctor, Office of Planning and Consumer Programs, NHTSA, 400 Seventh Street, SW., Washington, DC 20590. Ms. Proctor's telephone number is (202) 366-0846. Her fax number is (202) 493-2290.

SUPPLEMENTARY INFORMATION: NHTSA administers a program for reducing motor vehicle theft. The central feature of this program is the Federal Motor Vehicle Theft Prevention Standard, 49 CFR Part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 1999, the most recent calendar year for which data are available.

In calculating the 1999 theft rates, NHTSA followed the same procedures it used in calculating the MY 1998 theft rates. (For 1998 theft data calculations, see 65 FR 40721, June 30, 2000). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources.

The 1999 theft rate for each vehicle line was calculated by dividing the number of reported thefts of MY 1999 vehicles of that line stolen during calendar year 1999, by the total number of vehicles in that line manufactured for MY 1999, as reported by manufacturers to the Environmental Protection Agency.

The preliminary 1999 theft data show an increase in the vehicle theft rate when compared to the theft rate experienced in CY/MY 1998. The preliminary theft rate for MY 1999 passenger vehicles stolen in calendar year 1999 increased to 2.89 thefts per thousand vehicles produced, an increase of 14.2 percent from the rate of 2.53 thefts per thousand vehicles experienced by MY 1998 vehicles in CY 1998. For MY 1999 vehicles, out of a total of 201 vehicle lines, 54 lines had a theft rate higher than 3.5826 per thousand vehicles, the established median theft rate for MYs 1990/1991. (See 59 FR 12400, March 16, 1994). Of the 54 vehicle lines with a theft rate higher than 3.5826, 50 are passenger car lines, four are multipurpose passenger vehicle lines, and none are light-duty truck lines.

In Table I, NHTSA has tentatively ranked each of the MY 1999 vehicle lines in descending order of theft rate. Public comment is sought on the accuracy of the data, including the data for the production volumes of individual vehicle lines.

Comments must not exceed 15 pages in length (49 CFR Part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR Part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Authority: 49 U.S.C. 33101, 33102 and 33104; delegation of authority at 49 CFR 1.50.

Preliminary Report of Theft Rates of 1999 Model Year Passenger Motor Vehicles Stolen in Calendar Year 1999
No. | Manufacturer | Make/model (line) | Thefts 1999 | Production (Mfr's) 1999 | 1999 theft rate (per 1,000 vehicles produced)
1 | HONDA | ACURA INTEGRA | 496 | 25,790 | 19.2323
2 | DAIMLERCHRYSLER | INTREPID ¹ | 9 | 480 | 18.7500
3 | MITSUBISHI | MIRAGE | 564 | 53,884 | 10.4669
4 | DAIMLERCHRYSLER | PLYMOUTH NEON | 350 | 38,944 | 8.9873
5 | DAIMLERCHRYSLER | NEON ¹ | 2 | 226 | 8.8496
6 | MITSUBISHI | MONTERO SPORT/NATIVA ² | 368 | 42,268 | 8.7063
7 | DAIMLERCHRYSLER | DODGE STRATUS | 715 | 84,128 | 8.4990
8 | DAIMLERCHRYSLER | DODGE INTREPID | 1,104 | 139,847 | 7.8943
9 | DAIMLERCHRYSLER | DODGE NEON | 448 | 56,850 | 7.8804
10 | BMW | Z3 | 18 | 2,547 | 7.0671
11 | MITSUBISHI | ECLIPSE | 349 | 50,070 | 6.9702
12 | DAIMLERCHRYSLER | SEBRING CONVERTIBLE | 319 | 46,758 | 6.8224
13 | GENERAL MOTORS | OLDSMOBILE ALERO | 799 | 121,343 | 6.5846
14 | DAIMLERCHRYSLER | PLYMOUTH BREEZE | 367 | 56,048 | 6.5480
15 | MITSUBISHI | DIAMANTE | 54 | 8,347 | 6.4694
16 | MITSUBISHI | GALANT | 390 | 62,488 | 6.2412
17 | DAIMLERCHRYSLER | STRATUS ¹ | 3 | 482 | 6.2241
18 | BMW | M3 | 41 | 7,415 | 5.5293
19 | KIA MOTORS | SEPHIA | 315 | 57,099 | 5.5167
20 | DAEWOO | LEGANZA | 74 | 14,217 | 5.2050
21 | GENERAL MOTORS | PONTIAC SUNFIRE | 383 | 74,944 | 5.1105
22 | NISSAN | SENTRA/200SX | 399 | 79,115 | 5.0433
23 | GENERAL MOTORS | PONTIAC GRAND AM | 1,510 | 299,775 | 5.0371
24 | TOYOTA | TERCEL | 59 | 12,122 | 4.8672
25 | SUZUKI | ESTEEM | 69 | 14,255 | 4.8404
26 | MERCEDES BENZ | 140 (CL-CLASS & S-CLASS) | 63 | 13,532 | 4.6556
27 | FORD MOTOR CO | MUSTANG | 579 | 125,973 | 4.5962
28 | FORD MOTOR CO | MERCURY TRACER | 117 | 25,972 | 4.5049
29 | GENERAL MOTORS | PONTIAC BONNEVILLE | 231 | 53,371 | 4.3282
30 | GENERAL MOTORS | OLDSMOBILE CUTLASS | 186 | 43,584 | 4.2676
31 | NISSAN | ALTIMA | 739 | 174,349 | 4.2386
32 | FORD MOTOR CO | LINCOLN TOWN CAR | 379 | 89,564 | 4.2316
33 | GENERAL MOTORS | CHEVROLET CAVALIER | 986 | 233,756 | 4.2181
34 | DAIMLER CHRYSLER | CIRRUS | 138 | 32,903 | 4.1941
35 | MITSUBISHI | MONTERO | 31 | 7,399 | 4.1898
36 | GENERAL MOTORS | OLDSMOBILE INTRIGUE | 359 | 86,481 | 4.1512
37 | DAIMLERCHRYSLER | LHS | 149 | 36,369 | 4.0969
38 | HONDA | PRELUDE | 46 | 11,366 | 4.0472
39 | JAGUAR | XJ8 | 29 | 7,235 | 4.0083
40 | DAIMLERCHRYSLER | JEEP CHEROKEE | 610 | 154,377 | 3.9514
41 | GENERAL MOTORS | BUICK REGAL | 286 | 73,309 | 3.9013
42 | NISSAN | INFINITI Q45 | 28 | 7,208 | 3.8846
43 | HONDA | CIVIC | 1,039 | 269,109 | 3.8609
44 | GENERAL MOTORS | CADILLAC DEVILLE | 411 | 106,554 | 3.8572
45 | GENERAL MOTORS | CHEVROLET MALIBU | 822 | 213,692 | 3.8467
46 | GENERAL MOTORS | CHEVROLET BLAZER S10/T10 | 762 | 199,042 | 3.8283
47 | TOYOTA | LEXUS GS | 116 | 30,513 | 3.8017
48 | FORD MOTOR CO | CONTOUR | 524 | 139,339 | 3.7606
49 | DAEWOO | LANOS | 31 | 8,312 | 3.7295
50 | MITSUBISHI | 3000GT | 12 | 3,244 | 3.6991
51 | GENERAL MOTORS | CHEVROLET METRO | 95 | 25,749 | 3.6895
52 | TOYOTA | COROLLA | 940 | 255,693 | 3.6763
53 | MERCEDES BENZ | 208 (CLK-CLASS) | 65 | 17,795 | 3.6527
54 | DAIMLERCHRYSLER | DODGE AVENGER | 61 | 16,883 | 3.6131
55 | KIA MOTORS | SPORTAGE | 135 | 38,232 | 3.5311
56 | SUZUKI | VITARA/GRAND VITARA | 124 | 35,651 | 3.4782
57 | DAEWOO | NUBIRA | 33 | 9,553 | 3.4544
58 | GENERAL MOTORS | PONTIAC FIREBIRD/TRANS AM/FORMULA | 119 | 35,115 | 3.3889
59 | HYUNDAI | SONATA | 82 | 24,539 | 3.3416
60 | FORD MOTOR CO | MERCURY MYSTIQUE | 134 | 40,939 | 3.2732
61 | FORD MOTOR CO | ESCORT | 933 | 287,150 | 3.2492
62 | HYUNDAI | TIBURON | 23 | 7,215 | 3.1878
63 | ISUZU | RODEO | 230 | 72,544 | 3.1705
64 | HYUNDAI | ACCENT | 120 | 37,950 | 3.1621
65 | GENERAL MOTORS | CHEVROLET CAMARO | 123 | 39,041 | 3.1505
66 | GENERAL MOTORS | PONTIAC GRAND PRIX | 437 | 142,546 | 3.0657
67 | GENERAL MOTORS | CHEVROLET CORVETTE | 90 | 29,904 | 3.0096
68 | JAGUAR | XK8 | 17 | 5,747 | 2.9581
69 | NISSAN | PATHFINDER | 181 | 61,310 | 2.9522
70 | DAIMLERCHRYSLER | SEBRING COUPE | 81 | 27,519 | 2.9434
71 | MAZDA | PROTÉGÉ | 208 | 70,802 | 2.9378
72 | MERCEDES BENZ | 129 (SL-CLASS) | 28 | 9,633 | 2.9067
73 | ROLLS-ROYCE | BENTLEY ARNAGE | 1 | 348 | 2.8736
74 | GENERAL MOTORS | CHEVROLET LUMINA/MONTE CARLO | 561 | 197,430 | 2.8415
75 | FORD MOTOR CO | EXPLORER | 1,099 | 386,943 | 2.8402
76 | MAZDA | 626 | 244 | 88,473 | 2.7579
77 | FORD MOTOR CO | TAURUS | 1,163 | 423,308 | 2.7474
78 | BMW | 7 | 23 | 8,391 | 2.7410
79 | DAIMLERCHRYSLER | CONCORDE | 175 | 64,234 | 2.7244
80 | GENERAL MOTORS | CHEVROLET PRIZM | 136 | 49,999 | 2.7201
81 | DAIMLERCHRYSLER | 300M | 206 | 76,130 | 2.7059
82 | HYUNDAI | ELANTRA | 158 | 60,317 | 2.6195
83 | DAIMLERCHRYSLER | JEEP GRAND CHEROKEE | 729 | 284,429 | 2.5630
84 | DAIMLERCHRYSLER | PLYMOUTH VOYAGER/GRAND | 377 | 150,111 | 2.5115
85 | NISSAN | INFINITI QX4 | 59 | 23,505 | 2.5101
86 | SUZUKI | SWIFT | 5 | 1,998 | 2.5025
87 | NISSAN | MAXIMA | 239 | 95,789 | 2.4951
88 | TOYOTA | TACOMA PICKUP TRUCK | 412 | 167,637 | 2.4577
89 | FORD MOTOR CO | MERCURY SABLE | 295 | 120,113 | 2.4560
90 | MAZDA | MILLENIA | 47 | 19,249 | 2.4417
91 | GENERAL MOTORS | CADILLAC SEVILLE | 86 | 35,624 | 2.4141
92 | FORD MOTOR CO | MERCURY COUGAR | 212 | 88,258 | 2.4020
93 | FORD MOTOR CO | MERCURY MOUNTAINEER | 105 | 43,743 | 2.4004
94 | HONDA | ACURA RL | 31 | 12,961 | 2.3918
95 | VOLVO | C70 | 12 | 5,087 | 2.3590
96 | DAIMLERCHRYSLER | JEEP WRANGLER | 197 | 84,990 | 2.3179
97 | TOYOTA | 4-RUNNER | 292 | 126,929 | 2.3005
98 | HONDA | ACURA SLX | 2 | 870 | 2.2989
99 | NISSAN | FRONTIER PICKUP TRUCK | 104 | 45,256 | 2.2980
100 | GENERAL MOTORS | OLDSMOBILE BRAVADA | 57 | 25,782 | 2.2108
101 | GENERAL MOTORS | BUICK CENTURY | 329 | 150,061 | 2.1924
102 | GENERAL MOTORS | CADILLAC ELDORADO | 35 | 15,982 | 2.1900
103 | GENERAL MOTORS | GMC JIMMY S-15 | 137 | 63,541 | 2.1561
104 | TOYOTA | CAMRY/CAMRY SOLARA | 1,040 | 490,959 | 2.1183
105 | DAIMLERCHRYSLER | DODGE CARAVAN/GRAND | 595 | 297,350 | 2.0010
106 | ISUZU | TROOPER | 46 | 23,094 | 1.9919
107 | VOLKSWAGEN | GOLF/GTI | 28 | 14,204 | 1.9713
108 | FORD MOTOR CO | RANGER PICKUP TRUCK | 692 | 356,716 | 1.9399
109 | ISUZU | HOMBRE PICKUP TRUCK | 5 | 2,595 | 1.9268
110 | GENERAL MOTORS | CHEVROLET ASTRO VAN | 146 | 76,071 | 1.9193
111 | VOLKSWAGEN | CABRIO | 15 | 8,153 | 1.8398
112 | TOYOTA | RAV4 | 109 | 60,776 | 1.7935
113 | TOYOTA | LEXUS SC | 5 | 2,822 | 1.7718
114 | MERCEDES BENZ | 163 (ML-CLASS) | 91 | 51,970 | 1.7510
115 | MERCEDES BENZ | 210 (E-CLASS) | 97 | 55,719 | 1.7409
116 | VOLKSWAGEN | JETTA | 191 | 109,769 | 1.7400
117 | DAIMLERCHRYSLER | DODGE DAKOTA PICKUP TRUCK | 233 | 134,058 | 1.7381
118 | BMW | 3 | 97 | 56,197 | 1.7261
119 | BMW | 5 | 52 | 30,490 | 1.7055
120 | HONDA | ACCORD | 607 | 356,993 | 1.7003
121 | PONTIAC | MONTANA VAN | 97 | 58,081 | 1.6701
122 | NISSAN | INFINITI G20 | 38 | 22,842 | 1.6636
123 | GENERAL MOTORS | CHEVROLET S-10 PICKUP TRUCK | 296 | 179,498 | 1.6490
124 | TOYOTA | CELICA | 8 | 4,868 | 1.6434
125 | GENERAL MOTORS | SATURN SL | 311 | 190,414 | 1.6333
126 | MERCEDES BENZ | 170 (SLK-CLASS) | 22 | 13,875 | 1.5856
127 | FORD MOTOR CO | F-150 PICKUP TRUCK | 276 | 174,285 | 1.5836
128 | GENERAL MOTORS | OLDSMOBILE 88/REGENCY | 61 | 39,921 | 1.5280
129 | GENERAL MOTORS | GMC SONOMA PICKUP TRUCK | 66 | 43,355 | 1.5223
130 | SAAB | 9-5 | 37 | 24,666 | 1.5000
131 | VOLVO | S80 | 37 | 24,976 | 1.4814
132 | FERRARI | F355 | 1 | 694 | 1.4409
133 | GENERAL MOTORS | GMC SAFARI VAN | 34 | 23,613 | 1.4399
134 | TOYOTA | AVALON | 89 | 61,819 | 1.4397
135 | MAZDA | B SERIES PICKUP TRUCK | 62 | 44,452 | 1.3948
136 | FORD MOTOR CO | LINCOLN CONTINENTAL | 37 | 27,054 | 1.3676
137 | DAIMLERCHRYSLER | TOWN & COUNTRY MPV | 104 | 76,795 | 1.3543
138 | VOLVO | S70/V70 | 80 | 59,367 | 1.3475
139 | SAAB | 9-3 | 46 | 34,580 | 1.3302
140 | HONDA | PASSPORT | 36 | 27,499 | 1.3091
141 | GENERAL MOTORS | BUICK PARK AVENUE | 78 | 59,904 | 1.3021
142 | TOYOTA | LEXUS RX | 118 | 91,102 | 1.2953
143 | TOYOTA | LEXUS ES | 58 | 46,162 | 1.2564
144 | NISSAN | QUEST | 50 | 40,506 | 1.2344
145 | GENERAL MOTORS | OLDSMOBILE AURORA | 23 | 18,729 | 1.2280
146 | GENERAL MOTORS | CADILLAC LIMOUSINE | 1 | 821 | 1.2180
147 | FORD MOTOR CO | MERCURY GRAND MARQUIS | 146 | 122,586 | 1.1910
148 | GENERAL MOTORS | CHEVROLET TRACKER | 41 | 34,839 | 1.1768
149 | GENERAL MOTORS | BUICK LESABRE | 117 | 100,354 | 1.1659
150 | GENERAL MOTORS | CADILLAC CATERA | 16 | 13,801 | 1.1593
151 | NISSAN | INFINITI I30 | 28 | 24,215 | 1.1563
152 | FORD MOTOR CO | MERCURY VILLAGER MPV | 59 | 51,066 | 1.1554
153 | FORD MOTOR CO | WINDSTAR VAN | 233 | 203,936 | 1.1425
154 | GENERAL MOTORS | SATURN SC | 54 | 47,578 | 1.1350
155 | AUDI | A6 | 28 | 24,809 | 1.1286
156 | MAZDA | MX-5 MIATA | 38 | 33,723 | 1.1268
157 | BMW | M | 3 | 2,731 | 1.0985
158 | HONDA | ACURA CL | 27 | 24,960 | 1.0817
159 | GENERAL MOTORS | CHEVROLET VENTURE VAN | 93 | 88,071 | 1.0560
160 | ISUZU | VEHICROSS | 2 | 2,005 | 0.9975
161 | DAIMLERCHRYSLER | DODGE VIPER | 1 | 1,033 | 0.9681
162 | GENERAL MOTORS | BUICK RIVIERA | 2 | 2,091 | 0.9565
163 | VOLKSWAGEN | PASSAT | 75 | 79,396 | 0.9446
164 | TOYOTA | LEXUS LS | 16 | 17,291 | 0.9253
165 | VOLKSWAGEN | NEW BEETLE | 60 | 66,867 | 0.8973
166 | AUDI | A8 | 2 | 2,244 | 0.8913
167 | FORD MOTOR CO | CROWN VICTORIA | 104 | 118,849 | 0.8751
168 | SUBARU | LEGACY | 78 | 90,840 | 0.8587
169 | PORSCHE | 911 | 11 | 12,887 | 0.8536
170 | SUBARU | IMPREZA | 17 | 20,208 | 0.8413
171 | AUDI | A4 | 26 | 31,892 | 0.8153
172 | HONDA | ACURA TL | 45 | 55,646 | 0.8087
173 | VOLKSWAGEN | EUROVAN | 2 | 2,555 | 0.7828
174 | MERCEDES BENZ | 202 (C-CLASS) | 28 | 37,472 | 0.7472
175 | ISUZU | AMIGO | 8 | 11,359 | 0.7043
176 | SUBARU | FORESTER | 32 | 46,668 | 0.6857
177 | JAGUAR | VANDEN PLAS | 3 | 4,435 | 0.6764
178 | HONDA | CR-V | 72 | 110,945 | 0.6490
179 | TOYOTA | SIENNA VAN | 43 | 69,531 | 0.6184
180 | GENERAL MOTORS | SATURN SW | 10 | 16,420 | 0.6090
181 | JAGUAR | XJR | 1 | 1,778 | 0.5624
182 | PORSCHE | BOXSTER CONVERTIBLE | 7 | 13,234 | 0.5289
183 | GENERAL MOTORS | OLDSMOBILE SILHOUETTE VAN | 20 | 38,130 | 0.5245
184 | HONDA | ODYSSEY VAN | 6 | 50,425 | 0.1190
185 | DAIMLERCHRYSLER | PLYMOUTH PROWLER | 0 | 3,655 | 0.0000
186 | FERRARI | 360 | 0 | 445 | 0.0000
187 | FERRARI | 456 | 0 | 119 | 0.0000
188 | FERRARI | 550 | 0 | 259 | 0.0000
189 | GENERAL MOTORS | BUICK FUNERAL COACH | 0 | 993 | 0.0000
190 | HONDA | ACURA NSX | 0 | 243 | 0.0000
191 | ISUZU | OASIS VAN | 0 | 702 | 0.0000
192 | LAMBORGHINI | DB132/DIABLO | 0 | 162 | 0.0000
193 | LOTUS | ESPRIT | 0 | 121 | 0.0000
194 | ROLLS-ROYCE | BENTLEY AZURE | 0 | 70 | 0.0000
195 | ROLLS-ROYCE | BENTLEY CONTINENTAL R | 0 | 6 | 0.0000
196 | ROLLS-ROYCE | BENTLEY CONTINENTAL SC | 0 | 23 | 0.0000
197 | ROLLS-ROYCE | BENTLEY CONTINENTAL T | 0 | 5 | 0.0000
198 | ROLLS-ROYCE | BENTLEY TURBO R | 0 | 2 | 0.0000
199 | ROLLS-ROYCE | SILVER SERAPH | 0 | 299 | 0.0000
200 | ROLLS-ROYCE | SILVER SPUR | 0 | 2 | 0.0000
201 | ROLLS-ROYCE | SILVER SPUR PARK WARD | 0 | 51 | 0.0000
¹ These vehicles were manufactured for sale in the U.S. territories under the Chrysler name plate.
² Nativa is the name applied to Montero Sport vehicles that are manufactured for sale only in Puerto Rico.

Issued on: March 7, 2001.
Stephen R. Kratzke,
Associate Administrator for Safety Performance Standards.

[FR Doc. 01-6217 Filed 3-13-01; 8:45 am]

BILLING CODE 4910-59-P